DEPARTMENT OF ENERGY

Federal Energy Regulatory Commission

Notice Announcing Filing Priority for Preliminary Permit Applications

| Project No.
FFP Project 40, LLC | 12929-002
Northland Power Mississippi River LLC | 14079-000

On January 17, 2012, the Commission held a drawing to determine priority among competing preliminary permit applications with identical filing times. In the event that the Commission concludes that none of the applicants' plans are better adapted than the others to develop, conserve, and utilize in the public interest the water resources of the region at issue, the priority established by this drawing will serve as the tiebreaker. Based on the drawing, the order of priority is as follows:

1. Northland Power Mississippi River LLC; Project No. 14079-000.

2. FFP Project 40, LLC; Project No. 12929-002.

Dated: January 18, 2012.
Nathaniel J. Davis, Sr.,
Deputy Secretary.

[FR Doc. 2012-1413 Filed 1-24-12; 8:45 am]

BILLING CODE 6717-01-P